DEPARTMENT OF THE TREASURY

Office of Foreign Assets Control

Designation of an Individual Pursuant to Executive Order 13619

AGENCY: Office of Foreign Assets Control, Treasury.

ACTION: Notice

SUMMARY: The Treasury Department's Office of Foreign Assets Control (“OFAC”) is publishing the name of one individual whose property and interests in property are blocked pursuant to Executive Order 13619 of July 11, 2012, “Blocking Property of Persons Threatening the Peace, Security, or Stability of Burma.”

DATES: The designation by the Director of OFAC of the one individual named in this notice, pursuant to Executive Order 13619, is effective July 2, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On July 11, 2012, President Barack Obama signed Executive Order 13619, “Blocking Property of Persons Threatening the Peace, Security, or Stability of Burma” (“E.O. 13619”), 77 FR 41243 (July 13, 2012), pursuant to, inter alia, the International Emergency Economic Powers Act (50 U.S.C. 1701 et seq.), which modifies the scope of the national emergency declared in Executive Order 13047 of May 20, 1997, as modified in scope in Executive Order 13448 of October 18, 2007, and relied upon for additional steps taken in Executive Order 13310 of July 28, 2003, Executive Order 13448 of October 18, 2007, and Executive Order 13464 of April 30, 2008.

Section 1(a) of E.O. 13619 blocks, with certain exceptions, all property and interests in property that are in the United States, that come within the United States, or that are or come within the possession or control of any United States person, including any foreign branch, of persons determined by the Secretary of the Treasury, in consultation with or at the recommendation of the Secretary of State, to satisfy any of the criteria set forth in subparagraphs (a)(i)-(a)(vi) of Section 1. On July 2, 2013, the Director of OFAC, in consultation with or at the recommendation of the Department of State, designated pursuant to one or more of the criteria set forth in Section 1, subparagraphs (a)(i)-(a)(vi) of E.O. 13619, the following individual, whose name has been added to the list of Specially Designated Nationals and Blocked Persons and whose property and interests in property are blocked pursuant to E.O. 13619:

1. HTAY, Thein; DOB 07 Sep 1955; POB Taunggyi, Burma; Lieutenant General; Chief of Defence Industries; Chief of Army Ordnance Industries (individual) [BURMA].

Dated: July 2, 2013.
Adam J. Szubin,
Director, Office of Foreign Assets Control.

[FR Doc. 2013-16690 Filed 7-11-13; 8:45 am]

BILLING CODE 4810-AL-P